DEPARTMENT OF LABOR

Office of the Secretary

Proposed Extension of Information Collection Request Submitted for Public Comment

AGENCY: Employee Benefits Security Administration, Department of Labor.

ACTION: Notice.

SUMMARY: The Department of Labor (the Department), in accordance with the Paperwork Reduction Act of 1995 (PRA 95) (44 U.S.C. 3506(c)(2)(A)), provides the general public and Federal agencies with an opportunity to comment on proposed and continuing collections of information. This helps the Department assess the impact of its information collection requirements and minimize the reporting burden on the public and helps the public understand the information collection requirements and provide the requested data in the desired format. Currently, the Department is soliciting comments on the information collection requests (ICRs) described in this notice.

DATES: Written comments must be submitted to the office shown in the Addresses section on or before October 15, 2013.

ADDRESSES: Direct all written comments regarding the information collection request and burden estimates to G. Christopher Cosby, Office of Policy and Research, Employee Benefits Security Administration, U.S. Department of Labor, 200 Constitution Avenue NW., Room N-5647, Washington, DC 20210. Telephone: (202) 693-8410; Fax: (202) 219-4745. These are not toll-free numbers. Comments may also be submitted electronically to the following Internet email address: ebsa.opr@dol.gov. A copy of the ICRs may be obtained free of charge by contacting G. Christopher Cosby, Office of Policy and Research, Employee Benefits Security Administration, U.S. Department of Labor, 200 Constitution Avenue NW., Room N-5647, Washington, DC 20210. Telephone: (202) 693-8410; Fax: (202) 219-4745, email: ebsa.opr@dol.gov. These are not toll-free numbers. The ICRs also are available at refinfo.gov (http://www.reginfo.gov/public/do/PRAMain).

SUPPLEMENTARY INFORMATION: This notice seeks public comment on the requests for extension of the Office of Management and Budget (OMB) approval of ICRs described in this notice. The Department is not proposing any changes to the existing ICRs at this time. An agency may not conduct or sponsor, and a person is not required to respond to, an information collection unless it displays a valid OMB control number. A summary of the ICRs and their current burden estimates follows:

Agency: Employee Benefits Security Administration, Department of Labor.

Title: Notice to Employees of Coverage Options under Fair Labor Standards Act Section 18B.

Type of Review: Extension of a currently approved collection of information.

OMB Control Number: 1210-0149.

Affected Public: Individuals or households; Business or other for-profit; Not-for-profit institutions.

Respondents: 6,160,461.

Responses: 72,484,292.

Estimated Total Burden Hours: 374,502.

Estimated Total Burden Cost (Operating and Maintenance): $12,229,992.

Description: Many provisions of the Patient Protection and Affordable Care Act (Affordable Care Act) that become effective beginning in 2014 are designed to expand access to affordable health coverage. These include provisions for coverage to be offered through a Health Insurance Marketplace (Marketplace), premium tax credits to assist individuals in purchasing such coverage, employer notice to employees of coverage options available through the Marketplace, and other related provisions. The Departments of Labor, Health and Human Services (HHS), and the Treasury are working together to develop coordinated regulations and other administrative guidance to assist stakeholders with implementation of the Affordable Care Act.

Beginning January 1, 2014, individuals and employees of small businesses will have access to affordable coverage through a new competitive private health insurance market—the Health Insurance Marketplace. The Marketplace offers one-stop shopping to find and compare private health insurance options. Open enrollment for health insurance coverage through the Marketplace begins October 1, 2013.

Section 1512 of the Affordable Care Act creates a new Fair Labor Standards Act (FLSA) section 18B requiring a notice to employees of coverage options available through the Marketplace. On May 8, 2013, the Department issued Technical Release 2013-2, which provides temporary guidance regarding the notice requirement under FLSA section 18B and announces the availability of the Model Notice to Employees of Coverage Options.

On May 10, 2013, the Office of Management and Budget (OMB) approved the model notice under OMB Control Number 1210-0149 pursuant to the emergency procedures for review and clearance in accordance with the Paperwork Reduction Act of 1995 (Pub. L. 104-13, 44 U.S.C. Chapter 35) and 5 CFR 1320.13. OMB approval of the revision currently is scheduled to expire on November 30, 2013.

Agency: Employee Benefits Security Administration, Department of Labor.

Title: Annual Funding Notice for Defined Benefit Plans.

Type of Review: Extension of a currently approved collection of information.

OMB Control Number: 1210-0126.

Affected Public: Individuals or households; Business or other for-profit; Not-for-profit institutions.

Respondents: 27,534.

Responses: 77,989,123.

Estimated Total Burden Hours: 977,000.

Estimated Total Burden Cost (Operating and Maintenance): $26,845,755.

Description: On July 6, 2012, President Barrack Obama signed the Moving Ahead for Progress in the 21st Century Act (MAP-21). The new law provides funding interest-rate stabilization for single employer defined benefit (DB) plans, effective for plan years beginning on and after January 1, 2012. To counter the current low interest rates that are triggering significantly larger pension contributions for many plan sponsors, the MAP-21 sets a floor (or ceiling) for the interest rates that single employer DB plan administrators generally are required to use to calculate contributions. Under the new rules, the generally required interest rates are limited to rates that are within a specified range, or corridor, above or below a 25-year average for the rates.

Employee Retirement Income Security Act of 1974 (ERISA) section 101(f) sets forth the requirements for plan administrators of most single-employer DB plans to furnish annual funding notices to the PBGC, plan participants and beneficiaries, and each labor organization representing such participants or beneficiaries. MAP-21 section 40211(b)(2)(A) has amended ERISA section 101(f)(2), by adding a new subparagraph (D), to require single-employer DB plan administrators to disclose additional information in the annual funding notice for a plan year beginning after December 31, 2011, and before January 1, 2015, regarding the effect of the MAP-21 segment rate stabilization rules on plan liabilities and the plan sponsor's minimum required contributions to the plan. MAP-21 section 40211(b)(2)(B) requires the Department to modify the model annual funding notice required under Pension Protection Act of 2006 (PPA) section 501(c) to include, prominently, the supplemental information required under new ERISA section 101(f)(2)(D).

On March 8, 2013, the Department released EBSA Field Assistance Bulletin (FAB) 2013-01 concerning the new disclosure requirements mandated the MAP-21. The FAB addresses a need for interim guidance pending the adoption of regulations or other guidance under ERISA section 101(f), as amended by the MAP-21. The FAB sets forth technical questions and answers and provides a model supplement that plan administrators may use to discharge their MAP-21 disclosure obligations and provides that, pending further guidance and as a matter of enforcement policy, the Department will treat a single employer DB plan administrator as satisfying MAP-21 requirements if the plan administrator complies with the guidance in the memorandum and otherwise acts in accordance with a good faith and reasonable interpretation of those requirements.

On April 19, 2013, the Office of Management and Budget (OMB) approved the model supplement as a revision to OMB Control Number 1210-0126 under the emergency procedures for review and clearance in accordance with the Paperwork Reduction Act of 1995 (Pub. L. 104-13, 44 U.S.C. Chapter 35) and 5 CFR 1320.13. OMB approval of the revision currently is scheduled to expire on December 31, 2013.

Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

Comments submitted in response to this notice will be summarized and/or included in the ICR for OMB approval of the extension of the information collection; they will also become a matter of public record.

Dated: August 8, 2013.
Michel Smyth,
Departmental Clearance Officer.

[FR Doc. 2013-19755 Filed 8-14-13; 8:45 am]

BILLING CODE 4510-29-P